DEPARTMENT OF DEFENSE

Department of the Army

Intent To Grant an Exclusive License for U.S. Army Owned Invention to Stevens Institute of Technology

AGENCY: Department of the Army, DoD.

ACTION: Notice.

SUMMARY: The Department of the Army announces that, unless there is an objection, after 15 days it contemplates granting an exclusive license to Stevens Institute of Technology, Hoboken, New Jersey for U.S. patent application serial number 13/301,124, filed November 21, 2011 entitled “Inkjet-Printed Flexible Electronic Components from Graphene Oxide”. Any license granted shall comply with 35 U.S.C. 209 and 37 CFR part 404.

DATES: Written objections must be filed not later than 15 days following publication of this notice.

ADDRESSES: Send written objections to Timothy Ryan, U.S. Army ARDEC, ATTN: RDAR-EIB (Bldg 93), Picatinny Arsenal, NJ 07806-5000.

FOR FURTHER INFORMATION CONTACT: Mr. Timothy Ryan, email: timothy.s.ryan.civ@mail.mil; (973) 724-7953.

SUPPLEMENTARY INFORMATION: None.

Brenda S. Bowen,
Army Federal Register Liaison Officer.

[FR Doc. 2014-20106 Filed 8-22-14; 8:45 am]

BILLING CODE 3710-08-P